DEPARTMENT OF HOUSING AND URBAN DEVELOPMENT

[Docket No. FR-5997-N-44]

30-Day Notice of Proposed Information Collection: Evaluation of the Section 811 Project Rental Assistance Program, Phase II

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: September 25, 2017.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW., Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on April 21, 2017 at 82 FR 18768.

A. Overview of Information Collection

Title of Information Collection: Evaluation of the Section 811 Project Rental Assistance Program, Phase II.

OMB Approval Number: 2528-0309.

Type of Request: (i.e., new, revision or extension of currently approved collection): Substantial revision of currently approved collection.

Form Number: None.

Description of the Need for the Information and Proposed Use: The Office of Policy Development and Research, at the U.S. Department of Housing and Urban Development (HUD), is proposing a revision of currently approved data collection activity as part of the evaluation of the Section 811 Supportive Housing for Persons with Disabilities (Section 811) Project Rental Assistance (PRA) Program. The Section 811 supportive housing model provides people with disabilities affordable housing and access to appropriate, voluntary supportive services. The traditional Section 811 Project Rental Assistance Contract (PRAC) program awarded interest-free capital advances and contracts for project-based rental assistance to nonprofit organizations to develop supportive housing. The Section 811 PRA program is a new approach to supportive housing that provides project-based rental assistance to state housing agencies for the development of supportive housing for extremely low-income persons with disabilities. Housing agencies must have an interagency partnership agreement with the state health and human service agency and the state Medicaid provider to provide services and supports directly to residents living in units funded with Section 811 PRA.

This evaluation is the second phase of a two-phase evaluation. Phase I evaluated the early implementation of the Section 811 PRA Program in the 12 states that were awarded the first round of PRA grants. The OMB Approval Number for Phase I is 2528-0309. HUD is now undertaking the second phase of the Section 811 PRA evaluation. The second phase will continue to evaluate the implementation of the Section 811 PRA Program, but will also assess the program's effectiveness and its impact on residents and will be limited to six states. The evaluation of the Section 811 PRA Program, including the assessment of its effectiveness compared to the traditional Section 811 PRAC Program, is mandated by the Frank Melville Supportive Housing Investment Act of 2010. This Federal Register Notice provides the opportunity to comment on the revision of the approved information collection activity for the second phase of the Section 811 PRA evaluation.

Data collection for the second phase of the evaluation of the Section 811 PRA Program includes in-person surveys with residents assisted by the Section 811 PRA and PRAC programs and in-person interviews with staff from PRA program participating agencies (property owners or managers of properties where Section 811 PRA residents live, manager-level staff at organizations that provide supportive services to PRA residents, and manager-level staff at Public Housing Authorities that committed housing subsidies for the PRA program). The purpose of the interviews is to assess the implementation experience of the Section 811 Project Rental Assistance program and the program's impact on residents. Participation in the resident survey is voluntary for PRA and PRAC residents.

Respondents (i.e., Affected Public): Residents assisted with HUD's Section 811 program, Section 811 property managers, supportive service providers, and Public Housing Authorities.

Total Estimated Burdens: Researchers will administer resident surveys for an average of 45 minutes with an additional 30 minutes needed to schedule the call and conduct prescreening questions with the respondent. The total burden for the 480 Section 811 residents is 480 hours. The average burden of interviews for property managers and service providers is one hour, with an additional half-hour to schedule the call and compile information needed to complete the interview. The average burden for Public Housing Authorities is 30 minutes with an additional 30 minutes needed to schedule the call and compile information for the interview. The total burden hours for property owners is 36 hours, the total burden hours for service providers is 72 hours, and the total burden hours for Public Housing Authorities is 12 hours. The total respondent burden for these data collection activities is 600 hours.

Estimated Hour and Cost Burden of Information Collection
Information collection | Number of respondents | Frequency of response | Responses per annum | Burden hour per response | Annual burden hours | Hourly cost per response | Annual cost
Property Owner/Managers | 24 | 1 | 24 | 1.50 | 36 | $27.42 | $987.12
Service Providers | 48 | 1 | 48 | 1.50 | 72 | 46.41 | 3,341.52
PHA Staff/Managers | 12 | 1 | 12 | 1.00 | 12 | 43.29 | 519.48
Section 811 PRA/PRAC Residents | 480 | 1 | 480 | 1.00 | 480 | 9.29 | 4,459.20
Total | 564 |  |  |  | 600 |  | 9,307.32

Based on the assumptions and table below we calculate the total annual cost burden for this information collection to be $9,307.32. For staff of participating agencies, we estimated their cost per response using the most recent (May 2016) Bureau of Labor Statistics, Occupational Employment Statistics median hourly wage for selected occupations classified by Standard Occupational Classification (SOC) codes. To estimate hourly wage rates for property owners and managers of properties where Section 811 residents live, we used the occupation code Property, Real Estate, and Community Association Managers (11-9140), with a median hourly wage of $27.42. For managers of service providers of Section 811 residents, we used Medical and Health Services Managers (11-9110), with a median hourly wage of $46.41. For Public Housing Authority managers, we used the Administrative Services Manager (11-3010), with a median hourly wage of $43.29.

Respondent | Occupation title | Occupation SOC code | Median hourly wage rate
Section 811 Property Manager | Property, Real Estate, and Community Association Managers | 11-9140 | $27.42
Service Provider Manager | Medical and Health Services Managers | 11-9110 | 46.41
Public Housing Authority Manager | Administrative Services Manager | 11-3010 | 43.29
Source: Bureau of Labor Statistics, Occupational Employment Statistics (May 2015), https://www.bls.gov/oes/current/oes_stru.htm.

Section 811 PRA and PRAC households participating in the Section 811 evaluation will range in employment position and earnings, but national data indicate the population has very low incomes. According to 2016 HUD Picture of Subsidized Households Data (https://www.huduser.gov/portal/datasets/assthsg.html), the average per person household income for Section 811 PRAC residents in the six states where the study is being conducted was $9,307.32, but only six percent of PRAC residents report wages as a major source of household income (current data on PRA participants is not yet available). We estimated the hourly wage burden for Section 811 residents, at $9.29, the average expected prevailing minimum wage in the six states where the evaluation is being conducted [California—$10.50; Delaware—$8.25; Louisiana—$7.25 (federal minimum wage); Maryland—$8.75; Minnesota—$9.50; Washington—$11.00]. We assumed an unweighted average as the survey sample will comprise of approximately 80 residents from each of the six states. (Source: U.S. Department of Labor, Wage and Hour Division, Minimum Wage Laws in the States—January 2017, https://www.dol.gov/whd/minwage/america.htm).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 26, 2017.
Anna P. Guido,
Department Reports Management Officer, Office of the Chief Information Officer.

[FR Doc. 2017-18103 Filed 8-24-17; 8:45 am]

BILLING CODE 4210-67-P